DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the U.S. Customs and Border Protection regulations (19 CFR 111.51), the following Customs broker licenses and all associated permits are cancelled without prejudice.

Name | License No. | Issuing port
David J. Lee | 05541 | Los Angeles.
American Customs Brokers Co., Inc | 04578 | Los Angeles.
Import Brokers, Inc | 06291 | Miami.
Bridgeport Customs Brokers, Inc | 14368 | Laredo.
Central Carolina Shipping, Inc | 09162 | Charlotte.

Dated: February 26, 2010.
Daniel Baldwin,
Assistant Commissioner, Office of International Trade.

[FR Doc. 2010-5451 Filed 3-11-10; 8:45 am]

BILLING CODE 9111-14-P